DEPARTMENT OF DEFENSE

Department of the Army; Corps of Engineers

Grant of Exclusive or Partially Exclusive Licenses

AGENCY: Department of the Army, U.S. Corps of Engineers, DoD.

ACTION: Notice.

SUMMARY: The Department of the Army, U.S. Army Corps of Engineers, announces the general availability of exclusive, or partially exclusive licenses for the pending patents listed under SUPPLEMENTARY INFORMATION. Any license granted shall comply with 35 U.S.C. 209 and 37 CFR Part 404.

ADDRESSES: Humphreys Engineer Center Support Activity, Office of Counsel, 7701 Telegraph Road, Alexandria, VA 22315-3860.

DATES: Applications for an exclusive or partially exclusive license may be submitted at any time from the date of this notice. However, no exclusive or partially exclusive license shall be granted until March 31, 2003.

FOR FURTHER INFORMATION CONTACT: Patricia L. Howland, (703) 428-6672.

SUPPLEMENTARY INFORMATION: 1. Title: System and Method for Remotely Monitoring an Interface Between Dissimilar Materials. A system for efficiently and cost effectively monitoring the status of the interface between two dissimilar media is provided. In a preferred embodiment, the system uses principles applied from the theory of time domain reflectometry (TDR), together with novel circuitry and low cost narrow band telemetry, to provide real time monitoring on a continuous basis, as needed. The circuitry involved permits operation of the system without relying on relative values of signal amplitude while employing a novel feedback function that sets the pulse repetition frequency instantaneously to permit an optimum data collection rate as well as a separate measure of the status based on the system operating parameters. It has particular application to real time monitoring and alerting to the effect of scour events in waterways.

Serial No.: 09/879,001.

Date: 6/13/2001.

2. Title: Natural Cue Surface Bypass Collector. A method that employs natural hydraulic cues to guide migrating fish, in particular juvenile fish, to bypass channels to circumvent barriers to their downstream migration, such as booms, weirs, dams, hydroelectric powerhouses, and sluice gates. The flow entering into the turbines of the powerhouse are slightly modified to create a hydraulic gradient in the strain rate hydraulic variables that guides fish to the entrance of a surface bypass collector.

Serial No.: 10/045,381.

Date: 1/15/2002.

3. Title: Mycoherbicidal Compositions and Methods of Preparing and Using the Same. A more environmentally safe measure to control aquatic weeds is also cost-efficient and relies on biological agents in the form of mycoherbicides. Mycoherbicides are typically formulated with one or more fungal pathogens or metabolites, or both thereof with herbicidal activity. The fungal pathogens are typically specific to infecting a certain spectrum of plant types, thus providing useful targeted delivery. It would be an advance in the art of bioherbicides to develop a mycoherbicidal composition, which may be applied either in wet or dry form, comprising an effective population control agent efficacious against a broad range of aquatic weeds including hydrilla. It would be a further advance in the art to develop a mycoherbicidal composition with enhanced biological viability and stability, specifically comprising a fungal pathogen as the population control agent that is extremely desiccant-tolerant, is capable of germinating both sporogenically and vegetatively, and is highly efficacious against hydrilla and other aquatic weeds, while being easy and relatively inexpensive to prepare and to use. It would also be desirable to provide a method of preparing such fungal pathogens in the form of a micro sclerotium that can efficiently and effectively maximize the biomass production thereof.

Serial No.: 10/138,579.

Date: 5/6/2002.

4. Title: Mapping Patterns of Movement Based on the Aggregation of Spatial Information Contained in Wireless Transmissions. Time-tagged coordinates from session-unique transmissions of wireless devices are collected routinely and stored for later analysis. From this data, one may derive a sequence of wireless device operation from which attributes may be ascertained. Sequences are accumulated until a dense aggregate pattern is formed over a geographic area. Aggregate data is sorted into ranges representing speed of movement and then converted to pixels representing cells in an aggregate matrix. Heavily weighted values are assigned to cells that represent a location within a pre-specified spatial error about a data point. Lower values are assigned to cells representing paths, or corridors, connecting these better-identified locations. As more transmission sessions are added to the matrix, the largest weight values cluster as individual cells representing a most likely path. Thus precise topographic attributes may be derived based on these spatial clusters, overlapping paths connecting them, or combinations thereof.

Serial No.: 10/206,757.

Date: 7/29/2002.

5. Title: Multi-purpose Mat and Method of Deploying Thereof. Multipurpose panels having L-shaped tabs are interconnected using durable connectors to form a multipurpose mat that facilitates mobility over otherwise unstable terrain. In one embodiment, four-sided panels are fabricated from laminations of fiberglass-reinforced plastic (FRP) with radiused rectangular holes machined in each of two adjacent edges and a recessed L-shaped tab formed along opposing adjacent edges. The connectors are fabricated from corrosion resistant metal and assembled to precise specifications prior to insertion in the rectangular holes machined in pre-specified types of panel. Top and bottom plates of durable connectors are fabricated from 6061-T6 aluminum stock. A threaded bolt used to tie the plates together, to which a liquid threadlocker is applied, is fabricated from a steel alloy suitable for use with aluminum. Two specifically fabricated tools, a spacer guide and an alignment tool, may be used to optimize installation. These also may be fabricated from 6061-T6 aluminum stock.

Serial No.: 10/211,515.

Date: 8/5/2002.

6. Title: System and Method for Automated Alerting to Geospatial Anomalies. An inexpensive system and reliable method for detecting spatial anomalies in real time detects hidden anomalies efficiently and safely. In a preferred embodiment, an FM-CW radar front-end communicates with a personal computer incorporating specific filter and processing circuitry, including an AID converter and a DSP. A target volume is illuminated from just above its top surface and return signals processed using the PC as programmed with a purpose-built algorithm. Data are down-converted to audio frequencies for ease in handling using inexpensive audio frequency circuitry. For use in avoiding bridged (hidden) crevasses during operation in snowfields, a version is mounted on a long boom extending from the front of the platform on which it is installed, typically a lead vehicle of a convoy. Heretofore, expensive systems requiring full-time monitoring by an operator were the only safe and reliable solution to insure safe traversal of snowfields.

Serial No.: 10/256,182.

Date: 9/27/2002.

7. Title: Motion Detection and Alerting System. A compact, autonomous motion detecting and alerting system alerts to the movement of objects of interest. Mounted on an environmentally sealed PC board are a transceiver such as a CW radar front-end, connectors, signal processors and a communications device. The system provides early warning of movement of an ice sheet or rubble field via the communication device that may be a cellular telephone. This system is mounted proximate the target surface under observation, oriented at pre-specified offset angles both laterally and in elevation. The target is illuminated and energy reflected therefrom is mixed with a portion of the transmitted signal to produce a difference frequency signal that is processed to establish existence of motion within a pre-specified velocity range. Upon verification of motion, notification is sent to a responsible authority. An autonomous or semi-autonomous power source and integral power management function may be incorporated on the same PC board.

Serial No.: 10/255,763.

Date: 9/27/2002.

Luz D. Ortiz,
Army Federal Register Liaison Officer.

[FR Doc. 02-32811 Filed 12-27-02; 8:45 am]

BILLING CODE 3710-92-M